DEPARTMENT OF AGRICULTURE

Grain Inspection, Packers and Stockyards Administration

United States Standards for Feed Peas

AGENCY: Grain Inspection, Packers and Stockyards Administration, USDA.

ACTION: Notice; request for public comment.

SUMMARY: We plan to establish U.S. standards for feed peas under the authority of the U.S. Agricultural Marketing Act of 1946, as amended (AMA). Current U.S. standards for Whole Dry Peas and Split Peas reflect the needs of the edible dry pea market. The quality and standards established for the edible dry pea market greatly differ from the feed pea market. Consequently, the current standards for edible dry peas do not reflect the current needs of the feed pea market. This action will provide uniform standards and will facilitate the marketing of feed peas.

DATES: We will consider comments that we receive by June 12, 2006.

ADDRESSES: We invite you to submit comments on this notice. Please reference the date and page number of this issue of the Federal Register in your comments. You may submit comments by any of the following methods:

• E-mail: Send comments via electronic mail to comments.gipsa@usda.gov.

• Mail: Send hardcopy written comments to Tess Butler, GIPSA, USDA, 1400 Independence Avenue, SW., Room 1647-S, Washington, DC 20250-3604.

• Fax: Send comments by facsimile transmission to: (202) 690-2755.

• Hand Delivery or Courier: Deliver comments to: Tess Butler, GIPSA, USDA, 1400 Independence Avenue, SW., Room 1647-S, Washington, DC 20250-3604.

• Federal eRulemaking Portal: Go to http://www.regulation.gov. Follow the on-line instructions for submitting comments.

To read comments: All comments received will be made available for public review at the above address during regular business hours (7 CFR 1.27(b)).

FOR FURTHER INFORMATION CONTACT: Vicki A. Lacefield, Policies and Procedures Branch, Field Management Division, USDA, GIPSA, Room 2420-S, Stop 3630, 1400 Independence Avenue, SW., Washington, DC 20250-3630, telephone (202) 720-0397; or e-mail to: Vicki.A.Lacefield@usda.gov.

SUPPLEMENTARY INFORMATION:

Background

The AMA directs and authorizes the Secretary of Agriculture to develop and improve standards for agricultural products (7 U.S.C. 1622). These are standards of quality, condition, quantity, grade, and packaging. The intent of such standards is to encourage uniformity and consistency in commercial practices.

GIPSA establishes and maintains a variety of quality and grade standards for agricultural commodities. These standards provide market participants with common terms to describe the quality of agricultural commodities and; thus, reduce transaction costs and facilitate marketing. They also provide a common standard to improve risk management through crop insurance and loan assistance. For example, USDA programs providing farm loan assistance typically rely on the U.S. standards to determine eligibility and payment amount. The AMA standards are voluntary and widely used in private contracts, government procurement, marketing communication, and, for some commodities, consumer information.

Standards developed under the AMA include rice, whole dry peas, split peas, lentils, and beans. The U.S. standards for Whole Dry Peas, Split Peas, Lentils, and Beans do not appear in the Code of Federal Regulations (although the process by which we develop these standards is specified through the regulations in 7 CFR 868.102, Procedures for establishing and revising grade standards); however the standards are available on the GIPSA Web site, http://www.gipsa.usda.gov. If we establish new standards for feed peas, we will publish a final notice in the Federal Register. The new U.S. standards will be available on the GIPSA Web site at http://archive.gipsa.usda.gov/reference-library/standards/feed_pea_standards.pdf and by contacting the Field Management Division at the above address.

Need for New Standards

The United States Dry Pea and Lentil Council and other dry pea industry representatives requested that we establish standards for dry peas used as feed for animals (feed peas). Current U.S. standards for Whole Dry Peas and Split Peas reflect the needs of the edible dry pea market. The pea industry indicated the need to establish separate standards for marketing peas as a feed product due to an increasing demand for peas used in animal feed. The quality and standards established for the edible dry pea market differ from the feed pea market. Consequently, the current standards for edible dry peas do not reflect the current needs of the feed pea market.

To begin, we worked with the United States Dry Pea and Lentil Council and others in the pea industry to examine the effectiveness of the U.S. Standards for Whole Dry Peas, Split Peas, and Lentils in today's marketing environment. As a result, GIPSA concluded that the current standards continue to meet consumer and processor needs for the edible pea and lentil markets.

Our work with the United States Dry Pea and Lentil Council and others in the pea industry also identified a market need for standards for feed peas. Based on a review of U.S. market needs and other feed pea standards used in Canada and Australia, we developed proposed standards for feed peas.

Feed Peas and Pea Production

Feed peas are dry peas (yellow and green) intended for animal feed purposes. Pea protein helps balance the nutrient deficiencies of grains such as corn and wheat, which are low in the important amino acids, lysine, and tryptophan. Peas contain a large concentration of lysine, which meets the needs of mono-gastric animals, such as swine and poultry. As a result, more peas are being used for swine, cattle, and poultry feed; and the trend is expected to continue to increase according to industry analysts.

As more companies around the world turn to peas as part of their ingredient base for animal feed, U.S. pea production has increased. According to the USDA, National Agricultural Statistics Service (NASS), the production of dry peas has been on a steady incline since 2001. For example, total U.S. planted acreage rose from 184,000 acres in 2000, to 808,000 acres in 2005. NASS projections are based on green, yellow, or winter dry pea production; they do not distinguish between peas destined for human consumers and peas destined for animal feed. Nevertheless, the vast majority of the production increase has been fueled by the increased demand for animal feed.

Standards

The proposed standards include three parts. Part I includes a series of definitions for the various terms used in the standards. Part II covers the basic principles governing application of standards, such as the type of sample used for a particular quality analysis and how analytical results are reported. Part III includes the actual quality grade specifications and how they are recorded for certification purposes.

We propose to specify standards for both U.S. Grade No. 1 Feed Peas and for U.S. Sample Grade Feed Peas. For the standard for U.S. Grade No. 1 Feed Peas, we propose quality factors for the maximum allowable amount of inert material and heat damaged peas. Feed peas that do not meet the requirements for U.S. Grade No. 1 Feed Peas would be classified as U.S. Sample Grade Feed Peas. Within the proposed standard for U.S. Sample Grade Feed Peas, we specified factors for moisture, animal excreta, metal fragments, broken glass, odor, heating, and quality.

To review the proposed standards, you may view or print them from the GIPSA Web site at http://www.gipsa.usda.gov or contact us by phone, fax, or e-mail using the information provided above under FOR FURTHER INFORMATION CONTACT.

Comments

GIPSA will solicit comments for 30 days. This comment period is considered appropriate given that representatives of the pea industry requested the development of feed pea standards and have reviewed the draft standards. In addition, our goal is to implement the new standards for the next harvest, which will be June-July, 2006. All comments we receive within the comment period will be made part of the public record maintained by GIPSA and will be available to the public for review. We will consider those comments before we take final action on the new standards.

Authority: 7 U.S.C. 1621-1627; 7 CFR 868.103.

James E. Link,
Administrator, Grain Inspection, Packers and Stockyards Administration.

[FR Doc. E6-7250 Filed 5-11-06; 8:45 am]

BILLING CODE 3410-EN-P